DEPARTMENT OF DEFENSE

Office of the Secretary

[Transmittal No. 20-40]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-40 with attached Policy Justification and Sensitivity of Technology.

Dated: August 11, 2020.
Aaron T. Siegel,
Alternate OSD Federal Register Liaison Officer, Department of Defense.

BILLING CODE 5001-06-P

BILLING CODE 5001-06-C

Transmittal No. 20-40

Notice of Proposed Issuance of Letter of Offer Pursuant to Section 36(b)(1) of the Arms Export Control Act, as amended

(i) Prospective Purchaser: Government of France

(ii) Total Estimated Value:

Major Defense Equipment * | $1.3 billion
Other | $ .7 billion
Total | $2.0 billion

(iii) Description and Quantity or Quantities of Articles or Services under Consideration for Purchase:

Major Defense Equipment (MDE):

Three (3) E-2D Advanced Hawkeye Aircraft

Ten (10) T-56-427A engines (6 installed and 4 spares)

Three (3) AN/APY-9 Radar Assemblies

Four (4) AN/ALQ-217 Electronic Support Measure systems (3 installed and 1 spare)

Three (3) AN/AYK-27 Integrated Navigation Channels and Display Systems

Five (5) Link-16 (MIDS-JTRS) Communications Systems (3 installed and 2 spares)

Ten (10) Embedded GPS/INS (EGI) Devices (6 installed and 4 spares)

Four (4) AN/APX-122(A) and AN/APX-123(A) Identification, Friend or Foe systems (3 installed and 1 spare)

One (1) Joint Mission Planning System

Non-MDE:

Also included are Common Systems Integration Laboratories with/Test Equipment, one in Melbourne, FL, and the other in France; air and ground crew equipment; support equipment; spare and repair parts; publications and technical documentation; transportation; training and training equipment; U.S. Government and contractor logistics, engineering, and technical support services; and other related elements of logistics and program support

(iv) Military Department: Navy (FR-P-SBM)

(v) Prior Related Cases, if any: FR-P-GXJ

(vi) Sales Commission, Fee, etc., Paid, Offered, or Agreed to be Paid: None

(vii) Sensitivity of Technology Contained in the Defense Article or Defense Services Proposed to be Sold: See Attached Annex

(viii) Date Report Delivered to Congress: July 6, 2020

* As defined in Section 47(6) of the Arms Export Control Act.

POLICY JUSTIFICATION

France—E-2D Advanced Hawkeye Aircraft, Spares and Support Equipment

The Government of France requests to buy three (3) E-2D Advanced Hawkeye Aircraft, ten (10) T-56-427A engines (6 installed and 4 spares), three (3) AN/APY-9 radar assemblies, four (4) AN/ALQ-217 electronic support measure systems (3 installed and 1 spare), three (3) AN/AYK-27 Integrated Navigation Channels and Display Systems, five (5) Link-16 (MIDS-JTRS) Communications Systems (3 installed and 2 spares), ten (10) Embedded GPS/INS (EGI) Devices (6 installed and 4 spares), four (4) AN/APX-122(A) and AN/APX-123(A) Identification, Friend or Foe systems (3 installed and 1 spare) and one (1) Joint Mission Planning System. Also included are Common Systems Integration Laboratories with/Test Equipment, one in Melbourne, FL, and the other in France; air and ground crew equipment; support equipment; spare and repair parts; publications and technical documentation; transportation; training and training equipment; U.S. Government and contractor logistics, engineering, and technical support services; and other related elements of logistics and program support. The total estimated program cost is $2 billion.

This proposed sale will support the foreign policy and national security of the United States by helping to improve security of a NATO ally which is an important force for political stability and economic progress in Europe.

The proposed sale will improve France's capability to meet current and future threats by providing its Naval Air Forces with a sustainable follow on capability to their current, legacy E-2C Hawkeye aircraft. The E-2D aircraft will continue and expand French naval aviation capabilities and maintain interoperability with U.S. naval forces. As a current E-2C operator, France will have no difficulty absorbing this equipment and support into its armed forces.

The proposed sale of this equipment and support will not alter the basic military balance in the region.

The principal contractor will be Northrop Grumman Systems Corp, Aerospace Systems, Melbourne, FL. There are no known offset agreements proposed in connection with this potential sale. Any offset agreement will be defined in negotiations between the Purchaser and the prime contractor.

Implementation of this proposed sale will not require the assignment of any additional U.S. Government or contractor representatives to France.

There will be no adverse impact on U.S. defense readiness resulting from this proposed sale.

Transmittal No. 20-40

Notice of Proposed Issuance of Letter of Offer Pursuant to Section 36(b)(1) of the Arms Export Control Act

Annex

Item No. vii

(vii) Sensitivity of Technology:

1. The E-2D Airborne Early Warning Aircraft is a carrier based command and control aircraft. The E-2D Airborne Early Warning Aircraft provides command and control capability as well as sea and air surveillance for naval forces.

2. The Multifunctional Information Distribution System (MIDS) Joint Tactical Radio System V (JTRS-5) is a Command, Control, Communications, Computing and Intelligence (C4I) system for the exchange of near real-time tactical information. MIDS JTRS provides Link 16 and TACAN functionalities providing information, both data and voice, across the network to air, ground, and maritime elements.

3. The AN/AYK-27 Integrated Navigation Channels and Display System (INCDS) is a navigation and communication system used for internal aircrew communication as well as operational alert and messaging display. The AN/AYK-27 INCDS provides internal communications between the five crew members and interfaces with the radio and selected navigation systems.

4. The LN-251 Embedded Global Positioning System (GPS) Inertial Navigation System (INS) (EGI) is a navigation system accurate global positioning information. The LN-251 EGI provides both satellite and inertial position information used for aircraft navigation and tracking

5. The AN/APY-9 Airborne Early Warning (AEW) Radar Group is an all-weather, airborne early warning radar designed to detect small, highly maneuverable targets in the dense littoral and overland environments. The AN/APY-9 AEW Radar Group provides enhanced airborne command and control and expanded surveillance capabilities.

6. The AN/ALQ-217 Electronic Support Measures (ESM) system is a passive detection system used to identify and locate Radio Frequency (RF) signals. The AN/ALQ-217 ESM System provides autonomous detection and identification of RF emissions.

7. The AN/ARC-210 RT-1939A(C) Radio is a Very High Frequency (VHF) and Ultra High Frequency (UHF) two-way radio providing voice and data communication. The AN/ARC-210 RT-1939A(C) Radio provides two-way, multi-mode voice and data communications across VHF and UHF frequencies as well as satellite communication.

8. The AN/APX-122A Identification Friend or Foe (IFF) Interrogator is a cooperative airborne interrogator capable of detecting military and civilian transponders. The AN/APX-122A IFF Interrogator provides target identification of both civilian and military targets via standardized interrogation modes.

9. The AN/APX-123A (V) Identification Friend or Foe (IFF) Transponder is a cooperative transponder capable of providing ownship IFF data to available IFF interrogators. The AN/APX-123A (V) IFF Transponder provides ownship information inclusive of craft identification data as well as altitude.

10. The Joint Mission Planning System (JMPS) and Mission Planning Environment (MPE) is a software system that provides aircrews with well-structured automated flight planning tools for aircraft, weapons, and sensors. The JMPS MPE system provides the information, automated tools, and decision aids needed to plan aircraft, weapon, and sensor missions rapidly and accurately.

11. The highest level of classification of defense articles, components, and services included in this potential sale is SECRET.

12. If a technologically advanced adversary were to obtain knowledge of the specific hardware and software elements, the information could be used to develop countermeasures that might reduce weapon system effectiveness or be used in the development of a system with similar or advanced capabilities.

13. A determination has been made that France can provide substantially the same degree of protection for the sensitive technology being released as the U.S. Government. This sale is necessary in furtherance of the U.S. foreign policy and national security objectives outlined in the Policy Justification.

14. All defense articles and services listed in this transmittal have been authorized for release and export to the France.

[FR Doc. 2020-18479 Filed 8-21-20; 8:45 am]

BILLING CODE 5001-06-P